DEPARTMENT OF COMMERCE

National Oceanic and Atmospheric Administration

[RTID 0648-XB795]

South Atlantic Fishery Management Council; Public Meeting

AGENCY: National Marine Fisheries Service (NMFS), National Oceanic and Atmospheric Administration (NOAA), Commerce.

ACTION: Notice of public meeting.

SUMMARY: The South Atlantic Fishery Management Council (Council) will hold meetings of the following: Southeast Data, Assessment and Review (SEDAR) Committee; Dolphin Wahoo Committee, Mackerel Cobia Committee, Snapper Grouper Committee, and Executive Committee. The meeting week will also include a formal public comment session and a meeting of the Full Council.

DATES: The Council meeting will be held from 1 p.m. on Monday, March 7, 2022, until 12 p.m. on Friday, March 11, 2022.

ADDRESSES:

Meeting address: The meeting will be held at the Westin Hotel, 110 Ocean Way, Jekyll Island, GA 31527; phone: (912) 635-4545. The meeting will also be available via webinar. Registration is required. See SUPPLEMENTARY INFORMATION.

FOR FURTHER INFORMATION CONTACT: Kim Iverson, Public Information Officer, SAFMC; phone: (843) 302-8440 or toll free: (866) SAFMC-10; fax: (843) 769-4520; email: kim.iverson@safmc.net.

SUPPLEMENTARY INFORMATION: Meeting information, including agendas, overviews, and briefing book materials will be posted on the Council's website at: http://safmc.net/safmc-meetings/council-meetings/. Webinar registration links for the meeting will also be available from the Council's website.

Public comment: Public comment on agenda items may be submitted through the Council's online comment form available from the Council's website at: http://safmc.net/safmc-meetings/council-meetings/. Comments will be accepted from February 18, 2022, until March 11, 2022. These comments are accessible to the public, part of the Administrative Record of the meeting, and immediately available for Council consideration.

The items of discussion in the individual meeting agendas are as follows:

Council Session I, Monday, March 7, 2022, 1 p.m. Until 4 p.m.

The Council will receive reports from state agencies, Council liaisons, NOAA Office of Law Enforcement, and the U.S. Coast Guard. The Council will then receive an update on the Acceptable Biological Catch Control Rule Amendment and discuss use of the Allocation Decision Tool for informing future sector allocations decisions.

SEDAR Committee, Monday, March 7, 2022, 4 p.m. Until 5 p.m.

The Committee will review and approve the Terms of Reference for the Yellowtail Snapper Interim Analysis and the Statement of Work for Golden Tilefish.

Dolphin Wahoo Committee, Tuesday, March 8, 2022, 8:30 a.m. Until 10 a.m.

The Committee will consider options for a Size Limit and Recreational Limits Framework Amendment to the Fishery Management Plan for the Dolphin Wahoo Fishery of the Atlantic and consider approving for public scoping. The Committee will also review and approve topics for the spring 2022 meeting of the Dolphin Wahoo Advisory Panel (AP).

Mackerel Cobia Committee, Tuesday, March 8, 2022, 10 a.m. Until 12 p.m.

The Committee will receive input from the Law Enforcement AP on Coastal Migratory Pelagics (CMP) Amendment 34 to allow retention of cut/damaged king mackerel for the recreational sector. CPM Amendment 34 addresses other management measures for Atlantic king mackerel and for Spanish mackerel in the South Atlantic. The Committee will consider approving CMP Amendment 34 for Secretarial review. The Committee will review CMP Amendment 33 addressing management of Gulf migratory group king mackerel and continue work on the amendment.

Snapper Grouper Committee, Tuesday, March 8, 2022, 1:30 p.m. Until 5 p.m.; Wednesday, March 9, 2022, 8:30 a.m. Until 3:45 p.m.; and Thursday, March 10, 2022, 8:30 a.m. Until 12 p.m.

The Committee will review initial public scoping input received on the Release Mortality Reduction and Red Snapper Catch Levels Framework Amendment and input from its Law Enforcement AP on the amendment. The Committee will provide further guidance on the range of actions to explore in the amendment to reduce the number of dead releases in the fishery and improve survival of released fish. The Committee will consider input from its Private Recreational Permitting and Reporting Workgroup and discuss reinitiating work on Amendment 46 to the Snapper Grouper Fishery Management Plan to address permitting and reporting requirements for the private recreational sector. The Committee will receive an update on Snapper Grouper Amendment 48 addressing modernization of the Wreckfish Individual Transferable Quota (ITQ) Program and provide direction to staff. The Committee will discuss management changes for greater amberjack being addressed in Amendment 49 and consider approving the amendment for public hearings. The Committee will receive input from the Law Enforcement AP on actions being considered in Amendment 50 addressing management of red porgy in the South Atlantic, make any necessary modifications, and consider recommending for formal Secretarial review. The Committee will review Snapper Grouper Amendments 51, 52, and 53, addressing management of snowy grouper, golden and blueline tilefish, and gag grouper, respectively, review public input received during scoping for the amendments and provide guidance on further development. Additionally, the Committee will receive a fishery overview for blueline tilefish and recommendations from its Scientific and Statistical Committee (SSC) regarding requested rebuilding projections for gag grouper. The Committee will then receive updates on red snapper recreational landings, the Management Strategy Evaluation (MSE) Project, the South Atlantic Red Snapper and Greater Amberjack Projects, and approve topics for the spring 2022 meeting of the Snapper Grouper AP.

Formal Public Comment, Wednesday, March 9, 2022, 4 p.m.—Public comment will be accepted from individuals attending the meeting on all items on the Council meeting agenda. The Council Chair will determine the amount of time provided to each commenter based on the number of individuals wishing to comment.

Executive Committee, Thursday, March 10, 2022, 1:30 p.m. Until 2:30 p.m.

The Committee will receive an update on Council Coordination Committee (CCC) activities.

Council Session II, Thursday, March 10, 2022, 2:30 p.m. Until 5 p.m. and Friday, March 11, 2022, 8:30 a.m. Until 12 p.m.

The Council will receive a briefing on any legal issues, if needed, followed by an update of the Southeast Reef Fish Survey (SERFS). The Council will receive reports from staff including updates from the Executive Director, the Climate Change Scenario Planning Initiative, activities of the Area Based Management Sub-Committee of the CCC, and the Council's Citizen Science and Outreach and Communication Programs. The Council will then consider and approve topics for the spring 2022 meetings of the Council's Advisory Panels. The Council will receive reports from NOAA Fisheries Southeast Regional Office, including updates on the Southeast For-Hire Electronic Reporting Program and a protected resources update. The Council will receive Committee reports, review its workplan for the next quarter and upcoming meetings, and take action as necessary. Updates from the NOAA Fisheries Southeast Fisheries Science Center will conclude the meeting, including an update on commercial e-logbook progress. The Council will discuss any other business as necessary.

Documents regarding these issues are available from the Council office (see ADDRESSES).

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) (5) days prior to the meeting.

Note: The times and sequence specified in this agenda are subject to change.

Authority: 16 U.S.C. 1801 et seq.

Dated: February 9, 2022.
Tracey L. Thompson,
Acting Deputy Director, Office of Sustainable Fisheries, National Marine Fisheries Service.

[FR Doc. 2022-03100 Filed 2-11-22; 8:45 am]

BILLING CODE 3510-22-P